DEPARTMENT OF TRANSPORTATION

Research and Special Programs Administration

Pipeline Safety: Semi-Annual Reporting of Performance Measures for Gas Transmission Pipeline Integrity Management

AGENCY: Office of Pipeline Safety (OPS), Research and Special Programs Administration (RSPA), DOT.

ACTION: Notice; issuance of advisory bulletin.

SUMMARY: This document provides guidance to operators of gas transmission pipelines regarding semi-annual reporting of performance measures for integrity management. Operators of gas transmission pipelines subject to Subpart O, “Pipeline Integrity Management,” must submit four overall measures of their integrity management performance on a semi-annual basis. That regulation specifies that the first such report must be submitted by August 31, 2004. This document provides additional guidance for operators regarding the first required report and on-line reporting that will be available for the initial performance measure submittals.

FOR FURTHER INFORMATION CONTACT: Shauna Turnbull by phone at (202) 366-3731, by fax at (202) 366-4566, or by e-mail at shauna.turnbull@rspa.dot.gov, regarding the subject matter of this guidance. General information about the Research and Special Programs Administration, Office of Pipeline Safety (RSPA/OPS) programs may be obtained by accessing OPS's home page at http://ops.dot.gov.

SUPPLEMENTARY INFORMATION:

Background

By notice dated December 15, 2003, (68 FR 69778) RSPA/OPS published a new Subpart O to the regulations governing safety of gas pipelines in 49 CFR part 192. Subpart O establishes requirements governing integrity management programs for gas transmission pipelines. Included among these requirements (49 CFR 192.945) are requirements for each transmission pipeline operator to maintain quantitative measures of its integrity management performance, including at least four overall performance measures specified in ASME/ANSI B31.8S, “Managing System Integrity of Gas Pipelines,” Section 9.4. The same regulation requires that each operator submit the four overall performance measures to RSPA/OPS on a semi-annual frequency. Subpart O was modified by a technical corrections rule published April 6, 2004, (69 FR 18228) which, among other changes, specified that the first semi-annual report be submitted by August 31, 2004.

49 CFR 192.951 specifies the acceptable means for submitting reports required by Subpart O. That regulation specifies an address for submission by mail, includes a facsimile number, and provides that submissions can be made through the online reporting system provided by RSPA/OPS for electronic reporting. The electronic system is available at the OPS Home page at http://ops.dot.gov. The electronic submission form for integrity management performance measures is scheduled to be posted on the OPS Home Page no later than August 1, 2004.

This advisory bulletin informs natural gas transmission pipeline operators that the required initial performance measures submission will be abbreviated, in recognition of the developmental state of operator integrity management programs. This advisory bulletin also informs pipeline operators that an on-line submission form will be available in time to make the first submission required by the rule (i.e., on or before August 1, 2004).

Advisory Bulletin (ADB-04-02)

To: Operators of gas transmission pipelines.

Subject: First Semi-annual Report of Integrity Management Performance Measures.

Purpose: To provide guidance to operators for making the first required semi-annual submission of performance measures for integrity management.

Advisory: Operators are required by 49 CFR 192.945 to make their first semi-annual submission of integrity management performance measures by August 31, 2004. RSPA/OPS is developing an electronic form to facilitate submission of the required measures. This form will be available on the OPS Home Page (http://ops.dot.gov), no later than August 1, 2004. RSPA/OPS strongly encourages operators to submit data using the electronic form, since this minimizes future transcription and handling, with the attendant chance for error. Operators may, of course, submit the information by mail or facsimile, addressed to OPS, 400 7th Street, SW., Room 2103, Washington, DC 20590. The fax number is (202) 366-4566. Please clearly notate your correspondence with “Gas IMP Reporting”.

The four overall performance measures that gas transmission pipeline operators are required to submit are:

1. Number of pipeline miles inspected versus program requirements.

2. Number of immediate repairs completed as a result of the integrity management inspection program.

3. Number of scheduled repairs completed as a result of the integrity management program.

4. Number of leaks, failures, and incidents (classified by cause).

With respect to the first performance measure, the phrase “versus program requirements” refers to the number of miles of the operator's pipeline system that require assessment in accordance with Subpart O, (i.e., the number of miles in high consequence areas). Operators are not required to have developed their integrity management programs and baseline inspection plans until December 17, 2004, and thus may not know at this time the total number of miles that will require assessment. Similarly, operators may not know what repairs are reportable, since they may not know which were made in high consequence areas.

The Pipeline Safety Improvement Act of 2002 (codified at 49 U.S.C. 60109(c)) requires that pipeline operators begin baseline assessment of gas transmission pipeline in high consequence areas by June 17, 2004. On November 17, 2003, RSPA/OPS published Advisory Bulletin ADB-03-07 (68 FR 64948), “Pipeline Safety: Guidance on When the Baseline Integrity Assessment Begins,” which provides guidance on what steps RSPA/OPS considers acceptable to begin the baseline assessment process to meet the intent of the statute. As described in more detail in the Advisory Bulletin, RSPA/OPS advises that operators must have begun efforts to perform inspections, including, for example, contracting with inspection agencies, but those operators need not have completed any inspections by that date.

The electronic report form for the August 2004 report will ask operators to verify that they began integrity management assessments, consistent with Advisory Bulletin ADB-03-07, by June 17, 2004. Operators who submit by mail or facsimile should similarly indicate that they began assessment activities by the required date.

RSPA/OPS has concluded that reporting numerical results for the four overall performance measures would be premature for the initial submission of performance measures required by August 31, 2004. Since integrity management plans, including identification of high consequence area mileage, are not required to be completed until December 2004, much of the data that might be reported in August would be preliminary and subject to change. Use of that data for comparison to later reports, (e.g., to identify trends), could be seriously misleading. RSPA/OPS expects that the electronic submission form to be created for the August 2004 submissions will indicate the form in which data will be collected for future intervals, but that those data fields will be inoperable for this reporting cycle. Operators reporting by mail or facsimile need not include numerical data related to the four overall performance measures. RSPA/OPS will provide additional advice regarding reporting for specific performance measures at a later date, if needed.

Issued in Washington, DC, on July 16, 2004.
Stacey L. Gerard,
Associate Administrator for Pipeline Safety.

[FR Doc. 04-16642 Filed 7-21-04; 8:45 am]

BILLING CODE 4910-60-P